DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

The LB Railco

[Docket Number FRA-2007-28613]

The LB Railco (LBRR), seeks a waiver of compliance from certain provisions of Safety Glazing Standards, 49 CFR Part 223, that requires certified glazing for two self-propelled switcher locomotives.

LBRR has been operating for the past several years as an industrial switcher for the Port of San Francisco. LBRR plans to expand its operation from currently four (4) miles to seven (7) miles of track as the primary shortline railroad operator for the Port of San Francisco once a new bridge is completed. LBRR plans to continue to use the Port's two historic ALCO S-2 switcher locomotives (LB 1 and LB 2) to service their current two customers and any customers that may require switching service at the Port in the future.

LBRR operates at a maximum speed of 20 mph with an average speed of 5 mph. The two ALCO S-2 switcher locomotives both have their original glass in the cabs, consisting of 13 separate windows in each cab. The glazing in these windows do not conform to 49 CFR Part 223 Safety Glazing Standards; however, the locomotives have been operating for the past 62 years in and around the same area of San Francisco, in which they currently operate and the glass has remained intact without damage.

LBRR requests a waiver from 49 CFR Part 223 requirements for these two locomotives because the locomotives operate at very slow speeds in a safe area. Both locomotives have historic significance and by replacing the glazing would diminish the historic value with an estimated cost of $15,000.00 to modify the glazing in each locomotive which would be prohibitively expensive.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2007-28613) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC on February 8, 2008.
Grady C. Cothen, Jr.,
Deputy Associate Administrator for Safety Standards and Program Development.

[FR Doc. E8-2686 Filed 2-12-08; 8:45 am]

BILLING CODE 4910-06-P